DEPARTMENT OF LABOR

Employment and Training Administration

Agency Information Collection Activities; Comment Request; Senior Community Service Employment Program (SCSEP)

ACTION: Notice of information collection; request for comment.

SUMMARY: The Department of Labor (DOL), Employment and Training Administration (ETA) is soliciting comments concerning a proposed extension for the authority to conduct the information collection request (ICR) titled, “Senior Community Service Employment Program (SCSEP).” This comment request is part of continuing Departmental efforts to reduce paperwork and respondent burden in accordance with the Paperwork Reduction Act of 1995 (PRA).

DATES: Consideration will be given to all written comments received by May 21, 2018.

ADDRESSES: A copy of this ICR with applicable supporting documentation; including a description of the likely respondents, proposed frequency of response, and estimated total burden may be obtained free by contacting LaMia Chapman by telephone at 202-693-3356, TTY 1-800-877-8339, (these are not toll-free numbers) or by email at SCSEPTransition@dol.gov.

Submit written comments about, or requests for a copy of, this ICR by mail or courier to the U.S. Department of Labor, Employment and Training Administration, Office of Workforce Investment, Division of National Programs, Tools, Technical Assistance, Senior Community Service Employment Program, 200 Constitution Avenue NW, Washington, DC 20210; by email: SCSEPTransition@dol.gov; or by Fax 202-693-3015.

FOR FURTHER INFORMATION CONTACT: LaMia Chapman by telephone at 202-693-3356 (this is not a toll-free number) or by email at SCSEPTransition@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The purposes of this Information Collection Request are: to (1) Fulfill the Older Americans Act Reauthorization Act of 2016 (OAA-2016) statutory requirement for SCSEP new performance measures; (2) move SCSEP performance reporting into ETA's reporting systems (specifically the Workforce Integrated Performance System (WIPS) and the ETA Case Management System) as a result of the OAA-2016 and the Interim Final Rule 82 FR 25763; and (3) update data elements, code fields, and revised instructions.

The SCSEP, authorized by title V of the Older Americans Act (OAA), is the only Federally sponsored employment and training program targeted specifically to low-income, older individuals who want to enter or reenter the workforce. The Older Americans Act Reauthorization Act of 2016 (OAA-2016) amended the measures of performance for SCSEP to align them with the performance measures under the Workforce Innovation and Opportunity Act (WIOA). In December 2017, the DOL amended and implemented through regulation the core indicators of performance. The new performance measures, as specified in the SCSEP Interim Final Rule and section 513 of the OAA (42 U.S.C. 3056k, as amended by Pub. L. 114-144) are as follows:

(a) Hours (in the aggregate) of community service employment;

(b) The percentage of project participants who are in unsubsidized employment during the second quarter after exit from the project;

(c) The percentage of project participants who are in unsubsidized employment during the fourth quarter after exit from the project;

(d) The median earnings of project participants who are in unsubsidized employment during the second quarter after exit from the project;

(e) Indicators of effectiveness in serving employers, host agencies, and project participants; and

(f) The number of eligible individuals served, including the number of participating individuals described in subsection (a)(3)(B)(ii) or (b)(2) of section 518.

ETA has begun a modernization project to fulfill SCSEP's program reporting needs. The target date for grantees to begin reporting on the modernized information technology systems is July 1, 2018. OAA (42 U.S.C. 3056k, as amended by Pub. L. 114-144) authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0040.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Senior Community Service Employment Program (SCSEP).

Form: ETA 8705; ETA 8705A; ETA 8705B; ETA 9120; ETA 9121; ETA 9122; ETA 9123; ETA 9124A; ETA 9124B; ETA 9124C, ETA 9180A; ETA 9180B; ETA 9181; ETA 9182A; ETA 9182B; and ETA 9183.

OMB Control Number: 1205-0040.

Affected Public: Individuals and households, State, local and tribal governments, and the private sector (businesses or other for-profits, and not-for-profit institutions).

Estimated Number of Respondents: 75 grantees will respond to grant reports and an additional 20,800 respondents are expected to respond to the customer satisfaction surveys.

Frequency: Ongoing, Bi-Annual or Annual.

Total Estimated Annual Responses: 207,904.

Estimated Average Time per Response: Varies.

Estimated Total Annual Burden Hours: 597,206 hours.

Total Estimated Annual Other Cost Burden: $0.

Authority: 44 U.S.C. 3506(c)(2)(A).

Rosemary Lahasky,
Deputy Assistant Secretary for Employment and Training Administration, Labor.

[FR Doc. 2018-05743 Filed 3-20-18; 8:45 am]

BILLING CODE 4510-FT-P